DEPARTMENT OF AGRICULTURE

Animal and Plant Health Inspection Service

[Docket No. 01-045-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection activity to support the National Animal Health Monitoring System's national Sheep 2001 study. The objectives of the study, which will be conducted in 22 States, are to estimate the regional and national prevalence of specific diseases of sheep, conduct genomic testing for genetic factors that may be related to health conditions in sheep, describe baseline health and management practices employed by sheep producers, evaluate nutritional practices by region, and describe the frequency of health-related management practices.

DATES: We invite you to comment on this docket. We will consider all comments that we receive by August 28, 2001.

ADDRESSES: Please send four copies of your comment (an original and three copies) to: Docket No. 01-045-1, Regulatory Analysis and Development, PPD, APHIS, Suite 3C03, 4700 River Road Unit 118, Riverdale, MD 20737-1238.

Please state that your comment refers to Docket No. 01-045-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the national Sheep 2001 study, contact Ms. Marj Swanson, Management Analyst, Centers for Epidemiology and Animal Health, VS, APHIS, 555 S. Howes, Fort Collins, CO 80521; (970) 490-7978. For copies of more detailed information on the information collection, contact Mrs. Celeste Sickles, APHIS Information Collection Coordinator, at (301) 734-7477.

SUPPLEMENTARY INFORMATION: Title: National Animal Health Monitoring System, Sheep 2001.

OMB Number: 0579-XXXX.

Type of Request: Approval of new information collection.

Abstract: The United States Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Animal Health Monitoring System (NAHMS), which collects, on a national basis, statistically valid and scientifically sound data on the prevalence and economic importance of livestock and poultry diseases. Information from the studies conducted by NAHMS is disseminated to and used by livestock and poultry producers, consumers, animal health officials, private veterinary practitioners, animal industry groups, policy makers, public health officials, media, educational institutions, and others to improve the productivity and competitiveness of U.S. agriculture.

NAHMS' national studies have evolved into a collaborative industry and government initiative to help improve product quality and to determine the most effective means of producing animal and poultry products. APHIS is the only agency responsible for collecting national data on animal and poultry health. Participation in any NAHMS study is voluntary, and all data are confidential.

NAHMS will initiate the first national data collection for sheep through a national study, Sheep 2001. The study will take place in the following 22 States, which represent 88.8 percent of the U.S. sheep population according to the 1997 Census of Agriculture: Arkansas, California, Colorado, Idaho, Illinois, Indiana, Iowa, Kansas, Minnesota, Montana, Nevada, New Mexico, Ohio, Oregon, Pennsylvania, South Dakota, Texas, Utah, Virginia, Washington, Wisconsin, and Wyoming.

NAHMS personnel have completed a needs assessment, which was a collaborative effort with producers, industry, extension specialists, Federal and State personnel, and university researchers. The information gathered through this effort was used to determine the objectives of the study, i.e.: (1) Estimating the regional and national prevalence of specific diseases of sheep, such as Johne's disease, ovine progressive pneumonia, intestinal parasites, and some of the major causes of ovine abortion, such as Toxoplasma gondii, Chlamydia, and Campylobacter (Note: Toxoplasma gondii is one of the three major causes of sheep abortion in the United States. There are known risk factors for infection that could be measured and serve as recommendations to producers to avoid infection risks.); (2) conducting genomic testing to correlate certain genetic traits with possible health conditions in sheep, including measuring possible risk factors associated with the occurrence of scrapie infection; (3) describing baseline management practices used by sheep producers and evaluating their potential impact on selected health problems of sheep and potential productivity losses; (4) evaluating nutritional supplementation practices by sheep producers, variations in practices by region, and the impact on sheep health; and (5) describing the frequency of health-related management practices, including animal movement and identification, feeding practices, biosecurity procedures, use of veterinary services, source of health information, and vaccination and treatment practices.

We are asking the Office of Management and Budget (OMB) to approve the information collection activity for the national Sheep 2001 study.

The purpose of this notice is to solicit comments from the public (as well as affected agencies) concerning these information collection activities. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.82564 hours per response.

Respondents: Industry personnel, private veterinary practitioners, company and independent producers, academicians, State veterinary medical officers, State public health officials, and other interested parties involved with animal health and management practices in the United States.

Estimated annual number of respondents: 10,731.

Estimated annual number of responses per respondent: 1.

Estimated annual number of responses: 10,731.

Estimated total annual burden on respondents: 8,860 hours. (Due to averaging, the total annual burden hours may not equal the product of the annual number of responses multiplied by the reporting burden per response.)

All responses to this notice will be summarized and included in the request for OMB approval. All comments will also become a matter of public record.

Done in Washington, DC, this 25th day of June 2001.
Bobby R. Acord,
Acting Administrator, Animal and Plant Health Inspection Service.

[FR Doc. 01-16401 Filed 6-28-01; 8:45 am]

BILLING CODE 3410-34-U